NUCLEAR REGULATORY COMMISSION

Documents Containing Reporting or Recordkeeping Requirements: Office of Management and Budget (OMB) Review

AGENCY: U.S. Nuclear Regulatory Commission (NRC).

ACTION: Notice of the OMB review of information collection and solicitation of public comment.

SUMMARY: The NRC has recently submitted to OMB for review the following proposal for the collection of information under the provisions of the Paperwork Reduction Act of 1995 (44 U.S.C. Chapter 35).

1. Type of submission, new, revision, or extension: Revision.

1. The title of the information collection: Proposed Rule, 10 CFR part 50.48, “Fire Protection, Voluntary Adoption of NFPA 805 Fire Protection Requirements”.

3. The form number if applicable: Not applicable.

4. How often the collection is required: When reactor licensees choose to adopt NFPA 805 fire protection requirements (once), or when requesting NRC approval for use of alternative methods or analytical approaches under NFPA 805 (as needed).

5. Who will be required or asked to report: Current light water reactor licensees choosing to adopt NFPA 805 fire protection requirements.

6. An estimate of the number of annual responses: 6 (4 reactor plants adopting NFPA 805 fire protection requirements, and 2 reactor plants requesting to use alternative methods or analytical approaches).

7. The estimated number of annual respondents: Four licensees adopting NFPA 805 fire protection requirements, and two licensees requesting to use alternative methods or analytical approaches.

8. An estimate of the net total number of hours needed to complete the requirement or request (annual total for all plants): 3156 hours of reporting per year, and 180,800 hours of recordkeeping per year (offset by reductions in exemption request processing and cost reductions associated with reduced maintenance, operating and training costs for fire protection features which can be removed from the reactor plants.)

9. An indication of whether section 3507(d), Pub. L. 104-13 applies: Applicable.

10. Abstract: The proposed rule would modify 10 CFR 50.48 to permit existing reactor licensees to voluntarily adopt a set of fire protection requirements contained in the National Fire Protection Association (NFPA) Standard 805, “Performance-Based Standard for Fire Protection for Light Water Reactor Electric Generating Plants, 2001 Edition” (NFPA 805).

Submit, by November 25, 2002, comments that address the following questions:

1. Is the proposed collection of information necessary for the NRC to properly perform its functions? Does the information have practical utility?

2. Is the burden estimate accurate?

3. Is there a way to enhance the quality, utility, and clarity of the information to be collected?

4. How can the burden of the information collection be minimized, including the use of automated collection techniques or other forms of information technology?

A copy of the NRC's submittal to OMB may be viewed free of charge at the NRC Public Document Room, One White Flint North, 11555 Rockville Pike, Room O-1 F21, Rockville, MD 20852. The proposed rule “Revision of 10 CFR 50.48 to Permit Light-water Reactors to Voluntarily Adopt National Fire Protection Association (NFPA) Standard 805, ‘Performance-based Standard for Fire Protection for Light-water Reactor Electric Generating Plants, 2001 Edition’ as an Alternative Set of Risk-informed and performance-based Fire Protection Requirements” is or has been published in the Federal Register within several days of the publication date of this Federal Register Notice. The OMB clearance package and rule are available at the NRC worldwide Web site: http://www.nrc.gov/public-involve/doc-comment/omb/index.html for 60 days after the signature date of this notice and are also available at the rule forum site, http://ruleforum.llnl.gov.

Comments and questions should be directed to the OMB reviewer by November 25, 2002: Bryon Allen, Office of Information and Regulatory Affairs (3150-0011), NEOB-10202, Office of Management and Budget, Washington, DC 20503.

Comments can also be submitted by telephone at (202) 395-3087.

The NRC Clearance Officer is Brenda Jo. Shelton, (301) 415-7233.

Dated at Rockville, Maryland, this 17th day of October 2002.
For the Nuclear Regulatory Commission.
Brenda Jo. Shelton,
NRC Clearance Officer, Office of the Chief Information Officer.

[FR Doc. 02-27241 Filed 10-24-02; 8:45 am]

BILLING CODE 7590-01-P